DEPARTMENT OF DEFENSE

Department of the Army; Corps of Engineers

Board on Coastal Engineering Research

AGENCY: Department of the Army, DoD.

ACTION: Notice of meeting.

SUMMARY: In accordance with Section 10(a)(2) of the Federal Advisory Committee Act (Pub. L. 92-463), announcement is made of the following committee meeting:

Name of Committee: Board on Coastal Engineering Research.

Date of Meeting: June 22-24, 2010.

Place: Hudson Ballroom, Hyatt Regency Jersey City on the Hudson, 2 Exchange Place, Jersey City, NJ 07302.

Time:

8 a.m. to 5 p.m. (June 22, 2010).

8 a.m. to 3:15 p.m. (June 23, 2010).

8 a.m. to 12 p.m. (June 24, 2010).

FOR FURTHER INFORMATION CONTACT: Inquiries and notice of intent to attend the meeting may be addressed to COL Gary E. Johnston, Executive Secretary, U.S. Army Engineer Research and Development Center, Waterways Experiment Station, 3909 Halls Ferry Road, Vicksburg, MS 39180-6199.

SUPPLEMENTARY INFORMATION: The Board provides broad policy guidance and review of plans and fund requirements for the conduct of research and development of research projects in consonance with the needs of the coastal engineering field and the objectives of the Chief of Engineers.

Proposed Agenda: The goal of the meeting is to explore and provide recommendations regarding the implications of projected Climate Change scenarios to U.S. Army Corps of Engineers (USACE) mission, assets, and responsibilities in the coastal and estuarine system. Panel presentations dealing with the Science of Climate Change on Tuesday morning, June 22, will include Is Sea Level Accelerating along U.S. Coastlines?, Past and Present Sea-Level Changes along the U.S. Atlantic Coast, Atlantic Region Coastal Storms, Overview of Climatic Variation Effects on Extratropical and Tropical Storms, Evidence for a Changing North Pacific Wave Climate as a Result of Global Climate Change, Coastal Change and Vulnerability: Sea-Level Rise and other Climate Change Effects, Declining Arctic Ice Cover and Its Impacts, and Coastal Wetlands Ecological Impacts. The afternoon session begins with a Keynote address from the Assistant Secretary of the Army for Civil Works entitled “New Initiatives within the Current Administration.” Panel presentations follow from the Federal Emergency Management Agency, the National Oceanic and Atmospheric Administration's National Climate Service, and the Department of Transportation Committee on Marine Transportation System dealing with the Impacts of Climate Change. Panel presentations also include Marine and Coastal Ecosystems: Adaptation in the Age of Climate Change, Developing the Corps Adaptation Strategy to Climate Change, Science and Technology Implications of Climate Change to USACE, and a presentation on the Strategic Environmental Research and Development Program.

The presentations on Wednesday morning, June 23, 2010, include an Overview of State Climate Change Policies and Actions, and panel presentations pertaining to Regional Government Perspectives from the States of New Jersey, New York, Connecticut, Rhode Island, and Massachusetts, and panel presentations pertaining to Regional Specific Studies that include the Delaware Bay Region, Climate Change and the Chesapeake Bay, and Adapting to Climate Change Challenges—Learning from the New York City Experience. Wednesday afternoon presentations include Division Climate Change Research Needs from the South Pacific, Northwestern, South Atlantic, North Atlantic, and Great Lakes and Ohio River Divisions. A Harbor Inspection will conclude the day.

The Board will meet in Executive Session to discuss ongoing initiatives and actions on Thursday morning, June 24.

These meetings are open to the public. Participation by the public is scheduled for 2 p.m. on Wednesday, June 23.

The entire meeting and harbor inspection are open to the public, but since seating capacity is limited, advance notice of attendance is required. Oral participation by public attendees is encouraged during the time scheduled on the agenda; written statements may be submitted prior to the meeting or up to 30 days after the meeting.

Gary E. Johnston,
Colonel, Corps of Engineers, Executive Secretary.

[FR Doc. 2010-12225 Filed 5-20-10; 8:45 am]

BILLING CODE 3720-58-P